FEDERAL COMMUNICATIONS COMMISSION

Notice of Public Information Collection(s) Being Reviewed by the Federal Communications Commission

June 11, 2003.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit PRA comments August 18, 2003. If you anticipate that you will be submitting comments, but find it difficult to do so within the period of time allowed by this notice, you should advise the contact listed below as soon as possible.

ADDRESSES: Direct all Paperwork Reduction Act (PRA) comments to Judith B. Herman, Federal Communications Commission, 445 12th Street, SW., Room 1-C804, Washington, DC 20554 or via the Internet to Judith-B.Herman@fcc.gov.

FOR FURTHER INFORMATION CONTACT: For additional information or copies of the information collections contact Judy B. Herman at (202) 418-0214 or via the Internet at Judith-B.Herman@fcc.gov.

SUPPLEMENTARY INFORMATION: OMB Control No.: 3060-0681.

Title: Toll-Free Service Access Codes—CC Docket No. 95-155, 47 CFR Part 52, Subpart D, Sections 52.101—52.111.

Form No.: N/A.

Type of Review: Extension of a currently approved collection.

Respondents: Business or other for profit, not-for-profit institutions.

Number of Respondents: 2,520.

Estimated Time Per Response: 1 hour.

Frequency of Response: On occasion reporting requirement and third party disclosure requirement.

Total Annual Burden: 2,520 hours.

Annual Reporting and Recordkeeping Cost Burden: N/A.

Needs and Uses: Responsible organizations (RespOrgs) who wish to make a specific toll-free number unavailable must submit written requests to Database Services Management Inc. (DMSI), the toll-free data administrator. The request shall include the appropriate documentation of the reason for the request. DMSI, and if necessary, the Commission will use the information collected to determine if a particular toll-free number can be placed in “unavailable” status. This will prevent the fraudulent use of toll free numbers.

OMB Control No.: 3060-0723.

Title: Public Disclosure of Network Information by Bell Operating Companies (BOCs).

Form No.: N/A.

Type of Review: Extension of a currently approved collection.

Respondents: Business or other for-profit entities.

Number of Respondents: 7.

Estimated Time Per Response: 50 hours.

Frequency of Response: On occasion reporting requirement and third party disclosure requirement.

Total Annual Burden: 350 hours.

Annual Reporting and Recordkeeping Cost Burden: N/A.

Needs and Uses: Bell Operating Companies (BOCs) must make public disclosure of network information. This will prevent them from designing new network services or changing network technical specifications to the advantage of their own payphones. The information required by the BOCs must be provided to third parties. All of the requirements would be used to ensure that BOCs comply with their obligations under the 1996 Act.

Federal Communications Commission.
Marlene H. Dortch,
Secretary.

[FR Doc. 03-15491 Filed 6-18-03; 8:45 am]

BILLING CODE 6712-01-P